NATIONAL AERONAUTICS AND SPACE ADMINISTRATION

14 CFR Part 1209

[Docket No. NASA-2013-0001]

RIN 2700-AD82

Boards and Committees

AGENCY: National Aeronautics and Space Administration.

ACTION: Direct final rule.

SUMMARY: This direct final rule makes nonsubstantive changes to correct and remove citations referenced in NASA's Contract Adjustment Board rule. The revision to this rule is part of NASA's retrospective plan under Executive Order (EO) 13563 completed in August 2011. NASA's full plan and updates can be accessed on the Agency's open Government Web site at http://www.nasa.gov/open/.

DATES: This direct final rule is effective on June 4, 2013. Comments due on or before May 6, 2013. If adverse comments are received, NASA will publish a timely withdrawal of the rule in the Federal Register.

ADDRESSES: Comments must be identified with RIN 2700-AD82 and may be sent to NASA via the Federal E-Rulemaking Portal: http://www.regulations.gov. Follow the online instructions for submitting comments. Please note that NASA will post all comments on the Internet with changes, including any personal information provided.

FOR FURTHER INFORMATION CONTACT: Nanette Jennings, (202) 358-0819.

SUPPLEMENTARY INFORMATION:

Direct Final Rule Adverse Comments

NASA has determined this rulemaking meets the criteria for a direct final rule because it involves nonsubstantive changes to correct citations. No opposition to the changes and no significant adverse comments are expected. However, if the Agency receives a significant adverse comment, it will withdraw this direct final rule by publishing a notice in the Federal Register. A significant adverse comment is one that explains: (1) Why the direct final rule is inappropriate, including challenges to the rule's underlying premise or approach; or (2) why the direct final rule will be ineffective or unacceptable without a change. In determining whether a comment necessitates withdrawal of this direct final rule, NASA will consider whether it warrants a substantive response in a notice and comment process.

Background

The Board, established on May 15, 1961, is authorized to act for and exercise the authority of the Administrator in cases involving requests for extraordinary contractual adjustments under the Act of August 28, 1958 (50 U.S.C. 1431-35), is continued in effect by this regulation. Subpart 3 was promulgated to consider and dispose of requests for extraordinary contractual adjustments by contractors of NASA. The Board references an obsolete internal NASA policy (NASA Management Instruction (NMI) 1152.5) that was cancelled September 30, 1994, because it was considered to be a duplication of this regulation. Therefore, it should no longer be referenced in the regulation.

Statutory Authority

The National Aeronautics and Space Act (the Space Act), 51 U.S.C. 20113(a), authorizes the Administrator of NASA to make, promulgate, issue, rescind, and amend rules and regulations governing the manner of its operations and the exercise of the powers vested in it by law.

Regulatory Analysis

Executive Order 12866, Regulatory Planning and Review and Executive Order 13563, Improvement Regulation and Regulation Review

Executive Orders 13563 and 12866 direct agencies to assess all costs and benefits of available regulatory alternatives and, if regulation is necessary, to select regulatory approaches that maximize net benefits (including potential economic, environmental, public health and safety effects, distributive impacts, and equity). EO 13563 emphasizes the importance of quantifying both costs and benefits, of reducing costs, of harmonizing rules, and of promoting flexibility. This rule has been designated as “not significant” under section 3(f) of EO 12866.

Review Under the Regulatory Flexibility Act

The Regulatory Flexibility Act (5 U.S.C. 601 et seq.) requires an agency to prepare an initial regulatory flexibility analysis to be published at the time the proposed rule is published. This requirement does not apply if the agency “certifies that the rule will not, if promulgated, have a significant economic impact on a substantial number of small entities” (5 U.S.C. 603). This rule removes an obsolete citation referenced in 14 CFR part 3 and, therefore, does not have a significant economic impact on a substantial number of small entities.

Review Under the Paperwork Reduction Act

This direct final rule does not contain any information collection requirements subject to the Paperwork Reduction Act of 1995 (44 U.S.C. 3501 et seq.).

Review Under EO 13132, Federalism

EO 13132, “Federalism,” 64 FR 43255 (August 4, 1999) requires regulations be reviewed for Federalism effects on the institutional interest of states and local governments, and if the effects are sufficiently substantial, preparation of the Federal assessment is required to assist senior policy makers. The amendments will not have any substantial direct effects on State and local Governments within the meaning of the EO. Therefore, no Federalism assessment is required.

List of Subjects in 14 CFR Part 1209

Government contracts.

Accordingly, 14 CFR part 1209, subpart 3 is revised as follows:

PART 1209—BOARDS AND COMMITTEES

1. The authority citation for part 1209 subpart 3 is revised as follows:

Authority: Pub. L. 85-804 and 51 U.S.C. 20113.

§ 1209.302 [Amended]

2. In § 1209.302, remove the words “NASA Management Instruction (NMI) 1152.5 and”.

Charles F. Bolden, Jr.,
Administrator.

[FR Doc. 2013-07962 Filed 4-4-13; 8:45 am]

BILLING CODE P